NUCLEAR REGULATORY COMMISSION

[Docket No. 40-8681]

International Uranium (USA) Corporation

AGENCY: Nuclear Regulatory Commission.

ACTION: Finding of No Significant Impact.

SUMMARY: The U.S. Nuclear Regulatory Commission (NRC) proposes to accept the license amendment for the NRC Materials License SUA-1358 to authorize the licensee, International Uranium (USA) Corporation (IUSA), to allow for the receipt and processing of material from the Maywood facility located in Maywood, New Jersey, at IUSA's White Mesa uranium mill, located near Blanding, Utah. An Environmental Assessment was performed by the NRC staff in accordance with the requirements of 10 CFR part 51. The conclusion of the Environmental Assessment is a Finding of No Significant Impact (FONSI) for the proposed licensing action.

FOR FURTHER INFORMATION CONTACT: Mr. William von Till, Fuel Cycle Facilities Branch, Division of Fuel Cycle Safety and Safeguards, Office of Nuclear Material Safety and Safeguards, U.S. Nuclear Regulatory Commission, Mail Stop T-8A33, Washington, DC 20555. Telephone (301) 415-6251, e-mail rwv@nrc.gov.

SUPPLEMENTARY INFORMATION:

Background

Materials License SUA-1358 was originally issued by NRC on August 7, 1979, Pursuant to Title 10, Code of Federal Regulations (10 CFR), part 40, “Domestic Licensing of Source Material.” The IUSA site is licensed by the NRC under Materials License SUA-1358 to possess byproduct material in the form of uranium waste tailings and other uranium byproduct waste generated by the licensee's milling operations, as well as other source material from multiple locations. Some of these locations include material from Formerly Utilized Sites Remedial Action Program (FUSRAP) sites managed by the U.S. Army Corps of Engineers (USACE). These materials have similar chemical, physical, and radiological composition to conventional mill tailings. The mill is currently operating.

Summary of the Environmental Assessment

The NRC staff performed an appraisal of the environmental impacts associated with the receipt and processing of materials from the Maywood facility at the White Mesa mill, in accordance with 10 CFR part 51, Licensing and Regulatory Policy Procedure for Environmental Protection. A draft Environmental Assessment was sent to the State of Utah Department of Environmental Quality (DEQ) and Ute Mountain Utes by letter dated September 21, 2001, and was made public. The NRC staff received multiple comments from the public, the Utah DEQ, and the Ute Mountain Ute tribe. Based on some of the comments concerning potential groundwater impacts, the NRC staff requested that IUSA provide additional information regarding the potential for groundwater seepage to occur while the Maywood material would be temporarily stored on the ore pad. IUSA conducted a series of infiltration permeability tests on the ore pad soils and addressed the NRC staff concerns by letter dated July 1, 2002. In addition IUSA addressed issues concerning dust control by letters dated February 15, 2002, and March 11, 2002. In conducting its appraisal, the NRC staff considered the following: (1) Information contained in previous environmental evaluations of the White Mesa project; (2) information contained in the IUSA's amendment application dated June 15, 2001, June 22, 2001, August 3, 2001, and supplemented by letters dated, November 19, 2001, December 6, 2001, December 10, 2001, March 11, 2002, and July 1, 2002; (3) information derived from NRC staff site visits and inspections of the White Mesa mill site, and (4) comments from and conversations with the State of Utah Department of Environmental Quality (DEQ), the Ute Mountain Ute tribe, and the public. The results of the staff's appraisal are documented in an Environmental Assessment.

Conclusions

The NRC staff has examined the actual and potential environmental impacts associated with the receipt and processing of the proposed Maywood material, and has determined that the action is (1) consistent with requirements of 10 CFR part 40, (2) will not be inimical to the public health and safety, and (3) will not have long-term detrimental impacts on the environment. The following statements support the FONSI and summarize the conclusions resulting from the staff's environmental assessment:

1. An acceptable environmental and effluent monitoring program is in place to monitor effluent releases and to detect whether applicable regulatory limits are exceeded. Radiological effluents from site operations have been and are expected to continue to remain below the regulatory limits. A groundwater monitoring program is in place to detect potential seepage of contaminants from the tailings cells. The Entrada/Navajo Sandstone Aquifer is separated by low permeability formations from the tailings cells, further decreasing a potential impact to groundwater resources. The potential for seepage to occur while the material is temporarily stored on the ore pad is minimal due to the dry climate, the low permeability and highly compacted nature of the ore pad surface, and the limited duration of storage. An existing dust suppression program will be implemented at the Mill to reduce the potential for airborne contamination.

2. Present and potential environmental impacts from the receipt and processing of the Maywood material were assessed. By letter dated August 5, 2002, the U.S. Department of the Interior, Fish and Wildlife Service, concurred with the staff's determination of “No Effect” for threatened and endangered species, and critical habitat. No significant impacts have been identified as a result of this action. Therefore, the staff has determined that the risk factors for health and environmental hazards are insignificant.

Alternatives to the Proposed Action

The action that the NRC is considering is approval of an amendment request to a source material license issued pursuant to 10 CFR part 40. The alternatives available to the NRC are:

1. Approve the license amendment request as submitted; or

2. Amend the license with such additional conditions as are considered necessary or appropriate to protect public health and safety and the environment; or

3. Deny the request.

Based on its review, the NRC staff has concluded that the environmental impacts associated with the proposed action do not warrant either the limiting of IUSA's future operations or the denial of the license amendment. The NRC staff has concluded that there are no significant environmental impacts associated with the proposed action. Therefore, alternatives with equal or greater impacts need not be evaluated. Additionally, in the Technical Evaluation Report prepared for this action, the staff has reviewed the licensee's proposed action with respect to the criteria for the receipt and processing of alternate feed material, specified in NRC's formal guidance entitled “Guidance on the Use of Uranium Mill Feed Material other than Natural Ores,” and has no basis for denial of the proposed action. Therefore, the staff considers that Alternative 1 is the appropriate alternative for selection.

Finding of No Significant Impact

The NRC staff has prepared an Environmental Assessment for the proposed receipt and processing of Maywood Material for NRC Source Material License SUA-1358. On the basis of this assessment, the NRC staff has concluded that no significant environmental impact will result for the proposed action, and therefore, preparation of an Environmental Impact Statement is not warranted.

The Environmental Assessment and other documents related to this proposed action are available for public inspection and copying at the NRC Public Document Room, U.S. Nuclear Regulatory Commission Headquarters, Room 0-1F21, 11555 Rockville Pike, Rockville, MD 20852.

Members of the public may provide comments on the subject application within 30 days of the publication of this notice in the Federal Register. The comments may be provided to Micheal Lesar, Chief, Rules Review and Directives Branch, Division of Administration Services, Office of Administration, U.S. Nuclear Regulatory Commission, Washington DC 20555.

Dated at Rockville, Maryland, this 22nd day of August, 2002.
For the U.S. Nuclear Regulatory Commission.
Daniel Gillen,
Chief, Fuel Cycle Facilities Branch, Division of Fuel Cycle Safety and Safeguards, Office of Nuclear Material Safety and Safeguards.

[FR Doc. 02-22109 Filed 8-28-02; 8:45 am]

BILLING CODE 7590-01-P